DEPARTMENT OF COMMERCE

International Trade Administration

U.S. Aerospace Supplier & Investment Mission

AGENCY: International Trade Administration, Commerce.

ACTION: Notice.

Mission Description

The U.S. Department of Commerce, International Trade Administration, U.S. and Foreign Commercial Service (CS) is organizing a U.S. Aerospace Supplier & Investment Mission to Montreal, Canada, May 6-9, 2012. This aerospace mission is an ideal opportunity for U.S. aerospace companies to gain valuable international business leads in a low risk, highly important international aerospace market. Canada has the fifth largest aerospace industry in the world; in 2009 it generated over $22 billion in revenues. Participating U.S. companies will receive market briefings by Canadian industry experts, seminars on exporting best practices, participate in one-on-one meetings with Canadian aerospace supply chain contacts, engage in networking activities and visit key Canadian aerospace OEM plants such as Bombardier. This mission is designed to provide U.S. aerospace companies with a highly effective and unique opportunity to establish supplier relations with major Canadian aerospace companies.

Commercial Setting

The United States and Canada share the largest and most dynamic commercial relationship in the world; U.S. trade with Canada exceeds total U.S. trade with the 27 countries of the European Union combined. Canada also represents the number one export market for 36 of our 50 states and is among the top five export markets for another ten states. The aerospace sector is one of Canada's best prospects for U.S. exporters.

Canada is a world leader in business and regional aircraft, commercial helicopters, turbine engines, flight simulators, avionics, a broad range of aircraft systems and components. The United States is Canada's largest supplier of aircraft parts and components; on average, Canadian aerospace companies purchase more than 50% of their inputs from the United States. In 2010, U.S.-Canada aerospace bilateral trade exceeded $10 billion, and total U.S. aerospace exports to Canada were slightly more than $5.5 billion. Canada was the United States' 5th largest aerospace export market, and in many aerospace sub-markets was often in the top 5. Industry estimates expected Canada's aerospace sector to continue growing slowly in the second half of 2011, and post more aggressive growth rates in 2012; by 2015 the Canadian aerospace industry is expected to reach pre-2008 growth rates. Furthermore, industry analysts are predicting long term growth in commercial aircraft production over the next 20 years; since Canada's aerospace sector is 83% civil, this anticipated trend will bode well for Canada and for U.S. companies exporting to this market.

Quebec and Ontario are at the heart of the Canadian aerospace industry with about 51% and 29% of local production respectively. Montreal is the world's third largest aerospace cluster after Toulouse and Seattle, and is the only place in the world where an entire aircraft can be assembled within a 30-mile radius. Montreal is home to renowned industry leaders such as Bombardier Aerospace, Bell Helicopter Textron, Pratt & Whitney Canada, and CAE. To this exceptional concentration of world leaders, we can add other big names such as Rolls-Royce Canada, Héroux Devtek, Messier-Dowty, CMC Electronics—Esterline, Thales Canada, and many other suppliers.

Canada's geographic proximity, open market economy, stable business climate and receptivity to U.S. goods and services make it an ideal market for achieving the National Export Initiative goals. The North American Free Trade Agreement (NAFTA) allows for U.S. products to enter Canada duty-free and therefore further contributes to the relatively low-cost, low-risk, access that U.S. SMEs can use to prosper and grow in this foreign marketplace.

Mission Goals

The trade mission's goal is to advance the National Export Initiative by providing U.S. suppliers of aerospace products the opportunity to meet with key potential customers such as Canadian aerospace OEMs, sales agents and distributors and obtain export successes in Canada.

Mission Scenario

Participants in the mission to Canada will benefit from a full range of business facilitation and trade promotion services provided by the U.S. Commercial Service in Canada. Participants will receive a briefing by a panel of experts on the Canadian, Quebec and Ontario aerospace markets, an overview of doing business in Canada, and seminars with additional key information for U.S. exporters. It will also include one-on-one business meetings between U.S. participants and potential Canadian business partners, networking opportunities, and tours of some of the largest aerospace OEMs, where companies will have the opportunity to meet senior representatives and learn about planned projects and expected procurement needs. Please see the timetable below with detailed information on the program. Prior to the end of the mission, Commercial Service staff will counsel participants on follow-up.

Proposed Timetable

The proposed schedule allows for three days in Montreal and describes the programming planned for participating U.S. companies.

Sunday, May 6 | Participants arrive in Montreal.
| 6 p.m. No-Host Ice Breaker and No-Host Dinner.
Monday, May 7 | 8:00-8:30 Mission Welcoming Remarks by Consul General/SCO & Mission Logistics Briefing.
| 8:30-9:30 Presentation: Doing Business in Canada.
| 9:30-10:30 Presentations: Trends in the Canadian Aerospace Sector Panel.
| 10:30-11:00 Coffee Break—Networking.
| 11:00-12:30 Presentations: Canada's Aerospace Market, Quebec's Aerospace Market, Ontario's Aerospace Market.
| 12:30-13:30 Lunch Break (on their own).
| 14:00-16:00 Seminars: Exporting to Canada Best Practices.
Tuesday, May 8 | Program for U.S. Companies.
| 8:30-12:00 Business Matchmaking Appointments.
| 12:00—14:00 General Event Networking Lunch.
| 14:00-16:30 Business Matchmaking Appointments.
| 17:30-19:30 General Event Reception hosted by CG.
Wednesday, May 9 | 9:00-15:00 Plant Tours of Canadian aerospace OEMs for U.S. Companies.
| 16:00-16:30 Mission Debriefing at Hotel.
| Program End.

Participation Requirements

All parties interested in participating in the U.S. aerospace trade and investment mission must complete and submit an application form for consideration by the Department of Commerce. All applicants will be evaluated on their ability to satisfy the selection criteria as outlined below. This mission has a goal of a minimum of 15 and maximum of 18 companies.

Fees and Expenses: After a company has been selected to participate on the mission, a participation fee paid to the U.S. Department of Commerce is required. The participation fee will be $2,800 for large firms and $2,200 for a small or medium-sized enterprise (SME)*, for up to two company representatives. The fee for any additional representative is $250. Expenses for travel, lodging, in-country transportation (except for bus transportation to visit local aerospace OEMs on the third day of the mission), meals and incidentals will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed Trade Mission application and a completed Market Interest Questionnaire, including adequate information on the company's products and/or services, primary market objectives, and goals for participation. If the Department of Commerce receives an incomplete application, the Department may reject the application, request additional information, or take the lack of information into account when evaluating the applications.

• Each applicant must also certify that the products and services to be promoted through the mission are either produced in the United States or marketed under the name of a U.S. firm and have at least 51 percent U.S. content of the value of the finished product or service.

Selection Criteria for Participation

For Companies:

• Suitability of the company's products or services for the Canadian aerospace market.

• Applicant's potential for business in Canada, including the likelihood of exports resulting from the mission.

• Consistency in the applicant's goals and objectives with the stated scope of the mission.

Referrals from political organizations and any documents containing references to partisan political activities (including political contributions) will be removed from an applicant's submission and not considered during the selection process.

Timeframe for Recruitment and Applications

Recruitment will be conducted in an open and public manner, including publication in the Federal Register, posting on the Commerce Department trade mission calendar (http://export.gov/trademissions/eg_main_023185.asp) and other Internet Web sites, press releases to general and trade media, direct mail, industry trade associations and other multiplier groups, and publicity at industry meetings, symposia, conferences, and trade shows. CS Canada intends to conduct a webinar on “Opportunities in the Canadian Aerospace Market” to supplement recruitment efforts in January 2012.

The mission recruitment will be open on a first-come, first-served basis. Recruitment for the mission will begin immediately and close on February 1, 2012. Applications received after February 1, 2012 will be considered only if space and scheduling constraints permit. Applications will be available online on the mission Web site at: http://www.buyusa.gov/Canada.

Information can also be obtained by contacting the mission contacts listed below.

Contacts: A Gina Rebelo Bento, Commercial Specialist—Aerospace, U.S. Consulate General in Montreal, PO Box 65, Desjardins Station, Montreal, QC H5B 1G1, Tel: 514-908-3660, E-mail: Gina.Bento@mail.doc.gov.

Elnora Moye,
Commercial Servicie Trade Mission Program, U.S. Department of Commerce.

[FR Doc. 2011-24297 Filed 9-21-11; 8:45 am]

BILLING CODE 3510-FP-P